DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before October 7, 2010.

ADDRESS COMMENTS TO: Record Center, Pipeline and Hazardous, Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC, or at http://regulations.gov.

This notice of receipt of applications for modification of special permit is published in accordance with Part 107 of the Federal hazardous materials transportation law (49 U.S.C. 5117(b); 49 CFR 1.53(b)).

Issued in Washington, DC, on September 14, 2010.
Donald Burger,
Chief, Special Permits and Approval Branch.

Modification Special Permits
Application No. | Docket No. | Applicant | Regulation(s) affected | Nature of special permit thereof
7951-M |  | ConAgra Foods, Naperville, IL | 49 CFR 173.306(b)(1); 178.33; 175.3 | To modify the special permit to remove the requirement to carry a copy of the Special Permit on motor vehicles that transport these packages from paragraph 10.
10898-M |  | Hydac Corporation, Bethlehem, PA | 49 CFR 173.302 | To modify the special permit to authorize additional accumulators both ASME and PED.
11993-M |  | Key Safety Systems, Inc, Lakeland, FL | 49 CFR 173.301(a)(1); 173.302a | To modify the special permit to add two new drawings and change the wording to say that all of drawings on file are authorized.
12277-M |  | ISGEC (Former Grantee Indian Sugar and General Engineering Corporation), Haryana | 49 CFR 173.3; 173.304 | To modify the special permit to authorize a change to paragraph 7 (b)(l) the minimum burst pressure to 86.18 bar (1250PSIG); change paragraph 7.(2)(l) hydrostatic test pressure 34.74 bar to (500 PSIG) instead of 34.74 bar (500); and add a new drawing.
12629-M |  | TEA Technologies, Inc., Amarillo, TX | 49 CFR 173.34(e) | To modify the special permit to add the retesting of DOT 107A cylinder (tubes) by means of acoustic emission (AE) and ultrasonic examination (UE) in lieu of hydrostatic testing.
12706-M |  | RAGASCO Raufoss | 49 CFR 173.34; 173.201; 173.301; 173.304 | To modify the special permit to add a new drawing and to change the Maximum Volume from 24 liters to 34 liters in paragraph 7.a(1).
13998-M |  | 3AL Testing Corp., Denver, CO | 49 CFR 172.203(a); 172.302a(b)(2),(4) (5); 180.205(f)(g); 180.209(a),(b)(1) (iv) | To modify the special permit to authorize the use of the SPECTRO xSort for determining the steel composition of 3AA specification cylinders stamped as 3A.
14206-M |  | Digital Wave Corporation Centennial, CO | 49 CFR 180.205 | To modify the special permit to authorize the use of the SPECTRO xSort for determining the steel composition of 3AA specification cylinders stamped as 3A.
14751-M |  | ExxonMobil, Mont Belvieu, TX | 49 CFR 173.242 | To modify the special permit to add another drawing; change in Hazardous Material from Division 4.2 to 4.3; remove in its entirely the maximum capacity: 540 gallons (2047 liters); and to Tare Mass to 3800lbs.
14908-M |  | Conocophillips Alaska, Inc., Anchorage, AK | 49 CFR 173.302(f) | To reissue the special permit originally issued on an emergency basis authorizing the transportation in commerce of compressed oxygen without rigid outer packaging when no other means of transportation exist.
14953-M |  | Applied Laboratories, Inc., Columbus, IN | 49 CFR 173.306(a)(3)(v) | To modify the special permit to remove the requirement that a copy of the special permit to be carried aboard motor vehicles or rail freight used to transport packages.
14966-M |  | Vulcore Industrial LLC, Fort Wayne, WI | 49 CFR 173.302 and 180.205 | To modify the special permit to authorize a removable protective cover made of fire and water resistant materials to be applied around the cylinders for providing additional protection for the cylinders.
14996-M |  | Skydance Helicopters of Northern Nevada, Inc., Minden, NV | 49 CFR 172.101 Column (9B), 172.204(c)(3), 173.27(b)(2) and 175.30(a)(1) | To reissued the special permit that was originally issued as an Emergency special permit to a permanent special and to authorize the addition of Division 2.1; 2.2; and 4.2; and Class 3; 8; and 9 hazardous materials.

[FR Doc. 2010-23451 Filed 9-21-10; 8:45 am]

BILLING CODE 4909-60-M